DEPARTMENT OF ENERGY

Federal Energy Regulatory Commission

Combined Notice of Filings No. 1

Take notice that the Commission has received the following Natural Gas Pipeline Rate and Refund Report filings:

Docket Numbers: RP11-1940-000.

Applicants: Chesapeake Energy Marketing Inc, BHP Billiton Petroleum (Fayetteville) LL.

Description: Joint Petition of BHP Billiton Petroleum (Fayetteville) LLC and Chesapeake Energy Marketing, Inc. for Temporary Waivers of Capacity Release Regulations and Related Pipeline Tariff Provisions.

Filed Date: 03/31/2011.

Accession Number: 20110331-5152.

Comment Date: 5 p.m. Eastern Time on Tuesday, April 12, 2011.

Docket Numbers: RP11-1941-000.

Applicants: Northern Natural Gas Company.

Description: Northern Natural Gas Company submits tariff filing per 154.204: 20110331 Negotiated Rate to be effective 4/1/2011.

Filed Date: 03/31/2011.

Accession Number: 20110331-5153.

Comment Date: 5 p.m. Eastern Time on Tuesday, April 12, 2011.

Docket Numbers: RP11-1942-000.

Applicants: Tennessee Gas Pipeline Company.

Description: Tennessee Gas Pipeline Company submits tariff filing per 154.204: Quality Interchangeability to be effective 5/1/2011.

Filed Date: 03/31/2011.

Accession Number: 20110331-5154.

Comment Date: 5 p.m. Eastern Time on Tuesday, April 12, 2011.

Docket Numbers: RP11-1943-000.

Applicants: Algonquin Gas Transmission, LLC.

Description: Algonquin Gas Transmission, LLC submits tariff filing per 154.203: AGT Gas Quality RP07-504 Compliance Filing to be effective 5/1/2011.

Filed Date: 03/31/2011.

Accession Number: 20110331-5166.

Comment Date: 5 p.m. Eastern Time on Tuesday, April 12, 2011.

Docket Numbers: RP11-1944-000.

Applicants: Alliance Pipeline L.P.

Description: Alliance Pipeline L.P. submits tariff filing per 154.204: 2011 Summer Auction Filing to be effective 4/1/2011.

Filed Date: 03/31/2011.

Accession Number: 20110331-5167.

Comment Date: 5 p.m. Eastern Time on Tuesday, April 12, 2011.

Docket Numbers: RP11-1945-000.

Applicants: North Baja Pipeline, LLC.

Description: North Baja Pipeline, LLC submits tariff filing per 154.204: Imperial Irrigation District Negotiated Rates to be effective 4/1/2011.

Filed Date: 03/31/2011.

Accession Number: 20110331-5173.

Comment Date: 5 p.m. Eastern Time on Tuesday, April 12, 2011.

Docket Numbers: RP11-1946-000.

Applicants: Enbridge Offshore Pipelines (UTOS) LLC.

Description: Enbridge Offshore Pipelines (UTOS) LLC submits tariff filing per 154.204: Negotiated Rate and Non-Conforming to be effective 1/1/2011.

Filed Date: 03/31/2011.

Accession Number: 20110331-5191.

Comment Date: 5 p.m. Eastern Time on Tuesday, April 12, 2011.

Docket Numbers: RP11-1947-000.

Applicants: Gulf Crossing Pipeline Company LLC.

Description: Gulf Crossing Pipeline Company LLC submits tariff filing per 154.204: Antero 2 to Tenaska Capacity Release Negotiated Rate to be effective 4/1/2011.

Filed Date: 03/31/2011.

Accession Number: 20110331-5200.

Comment Date: 5 p.m. Eastern Time on Tuesday, April 12, 2011.

Docket Numbers: RP11-1948-000.

Applicants: Gulf Crossing Pipeline Company LLC.

Description: Gulf Crossing Pipeline Company LLC submits tariff filing per 154.204: Newfield K18 Capacity Release Negotiated Rate Agreement to be effective 4/1/2011.

Filed Date: 03/31/2011.

Accession Number: 20110331-5201.

Comment Date: 5 p.m. Eastern Time on Tuesday, April 12, 2011.

Docket Numbers: RP11-1949-000.

Applicants: Columbia Gulf Transmission Company.

Description: Columbia Gulf Transmission Company submits tariff filing per 154.203: Gas Quality Compliance Filing to be effective 5/27/2010.

Filed Date: 03/31/2011.

Accession Number: 20110331-5206.

Comment Date: 5 p.m. Eastern Time on Tuesday, April 12, 2011.

Docket Numbers: RP11-1950-000.

Applicants: TransColorado Gas Transmission Company LLC.

Description: TransColorado Gas Transmission Company LLC submits tariff filing per 154.204: Negotiated Rate 2011-03-31 Enterprise to be effective 3/31/2011.

Filed Date: 03/31/2011.

Accession Number: 20110331-5212.

Comment Date: 5 p.m. Eastern Time on Tuesday, April 12, 2011.

Docket Numbers: RP11-1951-000.

Applicants: Horizon Pipeline Company, L.L.C.

Description: Horizon Pipeline Company, L.L.C. submits tariff filing per 154.204: Revisions to Form of Service Agreements to be effective 5/1/2011.

Filed Date: 03/31/2011.

Accession Number: 20110331-5217.

Comment Date: 5 p.m. Eastern Time on Tuesday, April 12, 2011.

Docket Numbers: RP11-1952-000.

Applicants: Transcontinental Gas Pipe Line Company, LLC.

Description: Transcontinental Gas Pipe Line Company, LLC submits tariff filing per 154.204: 85 North Expansion—Negotiated Rate and Non-Conforming Agreements to be effective 5/1/2011.

Filed Date: 03/31/2011.

Accession Number: 20110331-5219.

Comment Date: 5 p.m. Eastern Time on Tuesday, April 12, 2011.

Docket Numbers: RP11-1953-000.

Applicants: Kinder Morgan Interstate Gas Transmission LLC.

Description: Kinder Morgan Interstate Gas Transmission LLC submits tariff filing per 154.204: Negotiated Rate 3-31-11 Mieco and Tenaska to be effective 4/1/2011.

Filed Date: 03/31/2011.

Accession Number: 20110331-5234.

Comment Date: 5 p.m. Eastern Time on Tuesday, April 12, 2011.

Docket Numbers: RP11-1954-000.

Applicants: Kern River Gas Transmission Company.

Description: Kern River Gas Transmission Company submits its Annual Gas Compressor Fuel Report.

Filed Date: 03/31/2011.

Accession Number: 20110331-5242.

Comment Date: 5 p.m. Eastern Time on Tuesday, April 12, 2011.

Docket Numbers: RP11-1955-000.

Applicants: Transcontinental Gas Pipe Line Company, LLC.

Description: Transcontinental Gas Pipe Line Company, LLC submits tariff filing per 154.204: Update to List of Non-Conforming Service Agreements to be effective 5/1/2011.

Filed Date: 03/31/2011.

Accession Number: 20110331-5260.

Comment Date: 5 p.m. Eastern Time on Tuesday, April 12, 2011.

Docket Numbers: RP11-1956-000.

Applicants: Rockies Express Pipeline LLC.

Description: Annual Sales Report of Rockies Express Pipeline LLC.

Filed Date: 03/31/2011.

Accession Number: 20110331-5261.

Comment Date: 5 p.m. Eastern Time on Tuesday, April 12, 2011.

Docket Numbers: RP11-1957-000.

Applicants: Stingray Pipeline Company, L.L.C.

Description: Stingray Pipeline Company, L.L.C. submits tariff filing per 154.312: Stingray General Section 4 Rate Case to be effective 5/1/2011.

Filed Date: 03/31/2011.

Accession Number: 20110331-5277.

Comment Date: 5 p.m. Eastern Time on Tuesday, April 12, 2011.

Docket Numbers: RP11-1958-000.

Applicants: Maritimes & Northeast Pipeline, L.L.C.

Description: Maritimes & Northeast Pipeline, L.L.C. submits tariff filing per 154.204: MNUS Negotiated Rate Filing to be effective 4/1/2011.

Filed Date: 03/31/2011.

Accession Number: 20110331-5325.

Comment Date: 5 p.m. Eastern Time on Tuesday, April 12, 2011.

Docket Numbers: RP11-1959-000.

Applicants: Equitrans, L.P.

Description: Equitrans, L.P. submits tariff filing per 154.204: Non-Conforming Agreement Filing—Equitable Gas Company, LLC to be effective 4/1/2011.

Filed Date: 03/31/2011.

Accession Number: 20110331-5326.

Comment Date: 5 p.m. Eastern Time on Tuesday, April 12, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: April 1, 2011.
Nathaniel J. Davis, Sr.,
Deputy Secretary.

[FR Doc. 2011-9308 Filed 4-15-11; 8:45 am]

BILLING CODE 6717-01-P